DEPARTMENT OF COMMERCE

National Oceanic and Atmospheric Administration

[RTID 0648-XC051]

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet June 6, 2022, through June 14, 2022. The meetings will be a hybrid conference.

DATES: The Council's Scientific and Statistical Committee (SSC) will begin at 8 a.m. in the Auditorium on Monday, June 6, 2022, and continue through Wednesday, June 8, 2022. The Council's Advisory Panel (AP) will begin at 8 a.m. in the Chum/Silver room on Tuesday, June 7, 2022, and continue through Friday, June 10, 2022. The Council will begin at 8 a.m. in the Auditorium on Thursday, June 9, 2022, and continue through Tuesday, June 14, 2022. All times listed are Alaska Time.

ADDRESSES: The meetings will be a hybrid conference. The in-person component of the meeting will be held at the Harrigan Centennial Hall, Sitka, AK 99835, or join the meeting online through the links at https://www.npfmc.org/upcoming-council-meetings.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, June 6, 2022, Through Wednesday, June 8, 2022

The SSC agenda will include the following issues:

(1) Central GOA (Gulf of Alaska) rockfish adjustments—Final Action

(2) BSAI (Bering Sea Aleutian Islands) Pacific cod small boat access—Initial Review

(3) BSAI Crab—(a) Aleutian Islands golden king crab ABC/OFL, SAFE (Stock Assessment and Fishery Evaluation) report, Crab Plan Team report

(4) Trawl EM (Electronic Monitoring) analysis—Initial Review

(5) Observer Program—(a) Annual Report for 2021—Review

(6) Salmon Reports—review (a) Salmon research (AFSC, ADFG), Chinook and chum stock status; (b) Chinook/chum genetics reports for BS, GOA; (c) Chinook AEQ (Adult equivalent) update and chum impact recommendations; (d) salmon excluder EFP (exempted fishing permit) final report

The agenda is subject to change, and the latest version will be posted at https://meetings.npfmc.org/Meeting/Details/2935 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, June 7, 2022, Through Friday, June 10, 2022

The Advisory Panel agenda will include the following issues:

(1) BSAI Crab—(a) Aleutian Islands golden king crab ABC/OFL, SAFE report, Crab Plan Team report; (b) adopt alternatives for snow crab rebuilding plan analysis

(2) Central GOA rockfish adjustments—Final Action

(3) BSAI Pacific cod small boat access—Initial Review

(4) Trawl EM analysis—Initial Review, Trawl EM Committee report, Enforcement Committee report

(5) Observer Program—(a) Annual Report for 2021—Review, FMAC (Fishery Monitoring Advisory Committee) report, Enforcement Committee report; (b) PCFMAC (Partial Coverage Fishery Monitoring Advisory Committee) report on partial coverage cost efficiencies—Review

(6) Salmon reports—review (a) Salmon research (AFSC, ADFG), Chinook and chum stock status; (b) Chinook/chum genetics reports for BS, GOA; (c) Chinook AEQ update and chum impact recommendations

(7) IFQ (Individual fishing quota) Committee Report

(8) Staff Tasking

Thursday, June 9, 2022, Through Tuesday, June 14, 2022

The Council agenda will include the following issues. The Council may take appropriate action on any of the issues identified.

(1) B Reports (Executive Director, NMFS Management, NOAA GC, NOAA enforcement, ADF&G, USCG, USFWS, NPRB (North Pacific Research Board)

(2) Central GOA rockfish adjustments—Final Action

(3) BSAI Pacific cod small boat access—Initial Review

(4) BSAI Crab—(a) Aleutian Islands golden king crab ABC/OFL, SAFE report, Crab Plan Team report; (b) adopt alternatives for snow crab rebuilding plan analysis

(5) Trawl EM analysis—Initial Review, Trawl EM Committee report, Enforcement Committee report

(6) SCC report in full

(7) AP report in full

(8) Observer Program—(a) Annual Report for 2021—Review, FMAC (Fishery Monitoring Advisory Committee) report, Enforcement Committee report; (b) PCFMAC (Partial Coverage Fishery Monitoring Advisory Committee) report on partial coverage cost efficiencies—Review

(9) Salmon reports—review (a) Salmon research (AFSC, ADFG), Chinook and chum stock status; (b) Chinook/chum genetics reports for BS, GOA; (c) Chinook AEQ update and chum impact recommendations; (d) industry reports including pollock IPA reports, Sea Share, and salmon excluder EFP final report

(10) National Marine Sanctuary program update on St. Paul sanctuary nomination

(11) IFQ (Individual fishing quota) Committee Report

(12) Staff Tasking

Connection Information

You can attend the meeting online using a computer, tablet, or smart phone; or by phone only. Connection information will be posted online at: https://www.npfmc.org/upcoming-council-meetings. For technical support please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from May 20, 2022, to June 3, 2022, and closes at 12 p.m. Alaska Time on Friday, June 3, 2022.

Authority: 16 U.S.C. 1801 et seq.

Dated: May 17, 2022.
Tracey L. Thompson,
Acting Deputy Director, Office of Sustainable Fisheries, National Marine Fisheries Service.

[FR Doc. 2022-10892 Filed 5-19-22; 8:45 am]

BILLING CODE 3510-22-P